DEPARTMENT OF HOMELAND SECURITY

Coast Guard

[Docket No. USCG-2013-0090]

Towing Safety Advisory Committee; Meetings

AGENCY: Coast Guard, DHS.

ACTION: Notice of Federal Advisory Committee Meetings.

SUMMARY: The Towing Safety Advisory Committee will meet in New York City, New York, March 21 and 22, 2013, to review and discuss recommendations from its subcommittees, and to receive tasking and briefs listed in the agenda in the SUPPLEMENTARY INFORMATION section below. The subcommittees will meet March 20, 2012, and work on seven assigned tasks listed in the referenced agenda. All meetings will be open to the public.

DATES: Subcommittees will meet on Wednesday, March 20, 2013 from 8:30 a.m. to 5:30 p.m. The full Committee will meet on Thursday, March 21, 2013, from 8 a.m. to 5 p.m. and again on Friday, March 22, 2013, from 8 a.m. to 12 noon. These meetings may close early if all business is completed. Written statements and requests to make oral presentations at the meetings should reach the Coast Guard on or before March 14, 2013.

ADDRESSES: The meetings will be held at the Alexander Hamilton U.S. Customs House, One Bowling Green, New York, NY 10004. Information on and directions to the Custom House may be found at its Web site at www.gsa.gov/portal/content/102466. If you are planning to attend the meeting, you will be required to pass through a security checkpoint and show your state-issued photo identification. Please arrive at least 30 minutes before the planned start of the meeting in order to pass through security.

For information on facilities or services for individuals with disabilities or to request special assistance at the meeting, contact the individuals listed in the FOR FURTHER INFORMATION CONTACT section as soon as possible.

To facilitate public participation, we are inviting public comment on the issues to be considered by the committee as listed in the “Agenda” section below. Written comments must be identified by the Docket Number USCG-2013-0090 and submitted via one of the following methods:

• Federal Rulemaking Portal: http://www.regulations.gov.

Follow the instructions for submitting comments.

• Mail: Docket Management Facility (M-30), U.S. Department of Transportation, West Building Ground Floor, Room W12-140, 1200 New Jersey Avenue SE., Washington, DC 20590-0001. We encourage use of electronic submissions because security screening may delay the delivery of mail.

• Fax: 202-493-2251.

• Hand Delivery: Same as mail address above, between 9 a.m. and 5 p.m., Monday through Friday, except Federal holidays. The telephone number is 202-366-9329.

Instruction: All submissions received must include the words “Department of Homeland Security” and the docket number of this action. All comments submitted will be posted on www.regulations.gov without alteration and will contain any personal information you provided. You may review a Privacy Act notice regarding our public dockets in the January 17, 2008, issue of the Federal Register (73 FR 3316).

Docket: For access to the docket to read documents or comments related to this notice, go to http://www.regulations.gov, insert USCG-2013-0090 in the Search Box, press Enter, and then click on the item you are interested in viewing.

FOR FURTHER INFORMATION CONTACT: Commander Robert L. Smith Jr., Designated Federal Officer (DFO) for TSAC, by Phone 202-372-1410, fax 202-372-1926, or email Robert.L.Smith@uscg.mil or Mr. William J. Abernathy, Alternate DFO TSAC; by Phone 202-372-1363, fax 202-372-1926, or email William.J.Abernathy@uscg.mil.

SUPPLEMENTARY INFORMATION: Notice of these meetings is given under the Federal Advisory Committee Act (FACA), 5 U.S.C. App. (PL 92-463). This Committee is established in accordance with and operates under the provisions of the FACA. The Towing Safety Advisory Committee provides advice and recommendations to the Secretary of the Department of Homeland Security on matters and actions concerning shallow-draft inland and coastal waterway navigation and towing safety. See 33 U.S.C. 1231a.

Agenda of Meetings

The subcommittees will meet on March 20 from 8:30 a.m. to 5 p.m. to work on their specific task assignments:

(1) Task Statement 12-01, Recommendations for the Prevention of Towing Vessel Crewmember Falls Overboard.

(2) Task Statement 12-02, Review and Recommendations for the Revision of NVIC 1-95, Voluntary Training Standards for Entry-Level Personnel on Towing Industry Vessels.

(3) Task Statement 12-03, Recommendations for the Enhancement of Towing Vessel Operational Stability.

(4) Task Statement 12-04, Recommendations for Safety Standards of Portable Facility Vapor Control Systems Used for Marine Operations.

(5) Task Statement 12-05, Recommendations to Enhance Fire Prevention and Containment aboard Towing Vessels.

(6) Task Statement 13-01, Recommendations to Automatic Identification System (AIS) Encoding for Towing Vessels.

(7) Task Statement 13-02, Recommendations Regarding Manning of Inspected Towing Vessels.

On March 21, 2013 from 8 a.m. to 5:30 p.m. and on March 22, 2013 from 8 a.m. until 12 noon, TSAC will meet to receive oral and written reports from its subcommittees on the following issues:

(1) Recommendations for the Prevention of Towing Vessel Crewmember Falls Overboard. A final report will be given.

(2) Review and Recommendations for the Revision of NVIC 1-95, Voluntary Training Standards for Entry-Level Personnel on Towing Industry Vessels. A final report will be given.

(3) Recommendations for the Enhancement of Towing Vessel Operational Stability. A final report will be given.

(4) Recommendations for Safety Standards of Portable Facility Vapor Control Systems Used for Marine Operations. A final report will be given.

(5) Recommendations to Enhance Fire Prevention and Containment aboard Towing Vessels. An interim report will be given.

(6) AIS encoding for Towing Vessels. An interim report will be given.

(7) Recommendations regarding Manning of Inspected Towing Vessels. An interim report will be given.

There will be a comment period for TSAC and a comment period for public after each report, but before each recommendation is formulated. The committee will review the information presented on each issue, deliberate on any recommendations presented in the subcommittees' reports, and formulate recommendations for the Department's consideration. A copy of each report will be available at http://homeport.uscg.mil/TSAC.

The committee will also receive taskings from the Designated Federal Officer on the following:

(1) Recommendations on the Designation of Narrow Channels;

(2) Recommendations for the Standardization of Tug/Towboat Definitions, and;

(3) Recommendations for Wake and Surge Attenuation Systems for Marinas Situated Near Commercial Navigation Channels.

The Committee will receive briefs on the following topics:

(1) A bi-annual report on the status of TSAC recommendations;

(2) The Coast Guard's Towing Vessel National Center of Expertise;

(3) The Coast Guard's Investigations National Center of Expertise;

(4) The National Maritime Center concerning Medical Screening for Licensure; and

(5) The Use of Liquefied Natural Gas (LNG) as a Commercial Marine Fuel.

Procedural

All meetings are open to the public. Please note that the meetings may close early if all business is complete. An opportunity for oral comments by the public will be provided during the meetings on March 21 and March 22. Speakers are requested to limit their comments to 5 minutes. Please note that the public oral comment period may end before the end of the stated meeting times if the committee has finished its business. If you would like to make an oral presentation at a meeting, please notify the DFO, listed above in the “For Further Information Contact” section, no later than March 14, 2013. Written statements (20 copies) for distribution at a meeting should reach the Coast Guard no later than March 14, 2013.

Minutes

Minutes from the meeting will be available for public review within 90 days following the close of the meeting and can be accessed from the Coast Guard Homeport Web site http://homeport.uscg.mil/TSAC.

Dated: February 28, 2013.
J. G. Lantz,
Director of Commercial Regulations and Standards.

[FR Doc. 2013-05081 Filed 3-4-13; 8:45 am]

BILLING CODE 9110-04-P